DEPARTMENT OF HOMELAND SECURITY

Federal Emergency Management Agency

[Docket ID FEMA-2010-0017]

Draft Programmatic Environmental Assessment for the Integrated Public Alert and Warning Program's Construction Projects

AGENCY: Federal Emergency Management Agency, DHS.

ACTION: Notice of availability and request for comments.

SUMMARY: The Federal Emergency Management Agency (FEMA) has prepared a draft Programmatic Environmental Assessment (PEA) to address the potential impacts to the human environment resulting from construction-related actions taken under the Integrated Public Alert and Warning Program (IPAWS). The construction actions will be taken to ensure that FEMA meets its responsibilities under Executive Order 13407, Public Alert and Warning System, by providing robust and survivable power generation, fuel storage, and other measures to ensure an effective, reliable, integrated, flexible, and comprehensive system to alert and warn the American people in situations of war, terrorist attack, natural disaster, or other hazards to public safety and well being. The purpose of the PEA is to evaluate these actions and facilitate FEMA's compliance with the National Environmental Policy Act (NEPA) by providing a framework to address the potential environmental impacts of these projects.

DATES: Comments on the draft Programmatic Environmental Assessment may be submitted on or before June 10, 2010.

ADDRESSES: You may submit comments, identified by Docket ID FEMA-2010-0017, by one of the following methods:

Federal eRulemaking Portal: http://www.regulations.gov. Search for Docket ID FEMA-2010-0017 and follow the instructions for submitting comments.

E-mail: FEMA-POLICY@dhs.gov. Include Docket ID FEMA-2010-0017 in the subject line of the message.

Fax: 703-483-2999

Mail/Hand Delivery/Courier: Office of Chief Counsel, Federal Emergency Management Agency, 500 C Street, SW., Room 835, Washington, DC 20472-3100.

Instructions: All submissions received must include the agency name and Docket ID. Regardless of the method used for submitting comments or material, all submissions will be posted, without change, to the Federal eRulemaking Portal at http://www.regulations.gov, and will include any personal information you provide. Therefore, submitting this information makes it public. You may wish to read the Privacy Act notice that is available via a link in the footer of http://www.regulations.gov.

Docket: For access to the docket to read the draft Programmatic Environmental Assessment or comments submitted by the public on these documents, go to the Federal eRulemaking Portal at http://www.regulations.gov and search for docket ID FEMA-2010-0017. These documents may also be inspected at FEMA, Office of Chief Counsel, Room 835, 500 C Street, SW., Washington, DC 20472-3100.

FOR FURTHER INFORMATION CONTACT: Jomar Maldonado, Environmental Officer, Office of Environmental Planning and Historic Preservation, FEMA, 500 C Street, SW., Washington, DC 20472-3100; phone (202) 646-2741.

SUPPLEMENTARY INFORMATION: The purpose of the draft Programmatic Environmental Assessment (PEA) is to evaluate construction-related actions of the Integrated Public Alert and Warning Program (IPAWS) and facilitate FEMA's compliance with the National Environmental Policy Act (NEPA) by providing a framework to address the potential environmental impacts of those actions. Pursuant to Executive Order 13407, the IPAWS Program goal is to identify, develop, and/or adopt appropriate standards to enable implementation of interoperable public alert and warning systems, to identify technologies and standards that improve security, reliability, addressability, accessibility, interoperability, coverage, and resilience of the public alert and warning systems, and to integrate these capabilities via a common IPAWS Aggregator. Certain construction-related actions may be taken, such as modification of existing transmitter structures to current code and standards, trenching for utility lines, removal of existing underground or above ground fuel storage tanks and the placement of above-ground fuel storage tanks of increased capacity, placement of generators, placement of pre-cast concrete shelter modules, and fencing, to meet the IPAWS Program goal.

The PEA provides the public and decision-makers with the information required to understand and evaluate the potential environmental consequences of actions funded by FEMA. In addition to meeting the goals of impact identification and disclosure, the PEA addresses the need to streamline the NEPA review process in the interest of national preparedness and homeland security.

The analysis presented in the PEA relies on FEMA's experience regarding environmental impacts that can be expected with actions that would be undertaken through IPAWS. FEMA will consider the analysis in the PEA to determine whether a Finding of No Significant Impact (FONSI) or a Notice of Intent to Prepare an Environmental Impact Statement is appropriate for the proposed actions described and assessed in the PEA.

The PEA will also assist in determining when more site-specific information is needed and what level of environmental analysis and documentation is required in order for more complex projects to comply with NEPA.

Authority: National Environmental Policy Act (NEPA), as amended, 42 U.S.C. 4331 et seq.; 40 CFR part 1500; 44 CFR part 10.

Dated: May 4, 2010.
W. Craig Fugate,
Administrator, Federal Emergency Management Agency.

[FR Doc. 2010-11033 Filed 5-10-10; 8:45 am]

BILLING CODE 9111-AB-P